DEPARTMENT OF JUSTICE

Notice of Lodging of a Consent Decree Pursuant to the Clean Water Act

Notice is hereby given that a proposed Consent Decree in United States v. Winchester Municipal Utilities, Civ. No. 06-102-KSF, was lodged on January 16, 2007, with the United States District Court for the Eastern District of Kentucky, Central Division.

The proposed Consent Decree would resolve certain claims under Sections 301 and 402 of the Clean Water Act, 33 U.S.C. 1251, et seq., against the City of Winchester (“the City”) and Winchester Municipal Utilities (“WMU”), through the performance of injunctive measures, the payment of a civil penalty, and the performance of a Supplemental Environmental Project (“SEP”). The United States and the Commonwealth of Kentucky allege that the City and WMU are liable as persons who discharged a pollutant from a point source to navigable waters of the United States without a permit.

The proposed Consent Decree would resolve the liability of the City and WMU for the violations alleged in the amended complaint filed in this matter. To resolve these claims, the City and WMU would perform injunctive measures valued at over $79 million and described in the proposed Consent Decree; would pay a civil penalty of $75,000 to the United States Treasury; and would perform a SEP valued at $230,000, which is designed to abate stormwater runoff pollution to an impaired waterway.

The Department of Justice will receive comments relating to the proposed Consent Decree for a period of thirty (30) days from the date of this publication. Comments should be addressed to the Assistant Attorney General, Environmental and Natural Resources Division, P.O. Box 7611, U.S. Department of Justice, Washington, DC 20044 and should refer to United States v. Winchester Municipal Utilities, DJ No. 90-5-1-1-08806.

The proposed Consent Decree may be examined at the office of the United States Attorney for the Eastern District of Kentucky, 110 West Vine Street, Suite 400, Lexington KY 40507-1671, and at the Region 4 Office of the Environmental Protection Agency, Atlanta Federal Center, 61 Forsyth Street, SW., Atlanta GA 30303. During the public comment period, the decree may also be examined on the following Department of Justice Web site, http://www.usdoj.gov/enrd/Consent_Decrees.html. A copy of the decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $65.50 (25 cents per page reproduction cost) payable to the U.S. Treasury. The check should refer to United States v. Winchester Municipal Utilities, DJ No. 90-5-1-1-00806.

Henry Friedman,
Assistant Section Chief, Environmental Enforcement Section, Environmental and Natural Resources Division.

[FR Doc. 07-305 Filed 1-24-07; 8:45 am]

BILLING CODE 4410-15-M